DEPARTMENT OF LABOR

Office of the Secretary

Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements can be properly assessed. Currently, Departmental Management is soliciting comments concerning the proposed Information Collection Request (ICR) for the Assessment of Compliance Assistance Activities Generic Clearance.

A copy of the ICR can be obtained by contacting the individual listed below in the ADDRESSES section of this notice.

DATES: Written comments must be submitted to the office listed in the ADDRESSES section below on or before January 10, 2005.

ADDRESSES: Send comments to Barbara Bingham, Office of the Assistant Secretary for Policy, 200 Constitution Avenue, NW., Room S-2312, Washington, DC 20210. Ms. Bingham can be reached on 202-693-5080 (this is not a toll-free number) or by e-mail at bingham-barbara@dol.gov.

SUPPLEMENTARY INFORMATION:

I. Background

The Department of Labor (DOL) proposes to assess and measure self-reported changes in behavior through surveys of workers, employers and other stakeholders. These surveys will provide feedback on compliance assistance documents and materials, onsite consultation visits, telephone and technical assistance, Web sites, partnerships and alliances, and compliance assistance seminars and workshops delivered by DOL across the country to the regulated community. This feedback will help DOL agencies improve the future quality and delivery of compliance assistance tools and services. This generic clearance allows agencies to gather information from both Federal and non-Federal users.

II. Desired Focus of Comments

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitted electronic submissions of response.

III. Current Actions

DOL agencies have conducted few surveys designed to assess changes in worker, employer and stakeholder behavior as a result of the compliance assistance received. DOL proposes to seek approval of this collection of information for a three year period.

Type of Review: New collection of information.

Agency: Office of the Assistant Secretary for Policy, Office of Compliance Assistance.

Title: Information Collection Request for the Assessment of Compliance Assistance Activities Generic Clearance.

OMB Number: 1225-0NEW.

Affected Public: Individuals and households; business or other for-profit; not-for-profit institutions; farms; Federal Government; and State, Local, or Tribal Government.

Frequency: On occasion.

Number of Respondents: 29,995.

Annual Responses: 9,998.

Average Time Per Response: Varies by survey/evaluation with an average of 13 minutes per survey.

Total Annual Burden Hours: 2,202.

Total Burden Cost (capital/startup): $0.

Total Burden Cost (operating/maintenance: $0.

Comments submitted in response to this notice will be summarized and/or included in the request for Office of Management and Budget approval of the information collection request; they also will become a matter of public record.

Signed at Washington, DC this 4th day of November, 2004.
David Gray,
Acting Assistant Secretary, Office of the Assistant Secretary for Policy.

[FR Doc. 04-25048 Filed 11-9-04; 8:45 am]

BILLING CODE 4510-23-P